FEDERAL COMMUNICATIONS COMMISSION

47 CFR Part 51

[WC Docket No. 04-313, CC Docket No. 01-338; FCC 04-179]

Unbundled Access to Network Elements; Review of the Section 251 Unbundling Obligations of Incumbent Local Exchange Carriers

AGENCY: Federal Communications Commission.

ACTION: Interim requirements.

SUMMARY: The Commission establishes interim requirements and details a 12-month transition plan governing competing carriers' unbundled access to incumbent local exchange carriers' (LECs’) network elements. These requirements extend for an interim period the effectiveness of existing contracts between carriers to avoid disruption in the telecommunications industry while new rules are being written pursuant to a Notice of Proposed Rulemaking simultaneously issued by the Commission.

DATES: Effective September 13, 2004.

ADDRESSES: Federal Communications Commission, 445 12th Street, SW., Washington, DC 20554. See SUPPLEMENTARY INFORMATION for further filing instructions.

FOR FURTHER INFORMATION CONTACT: Ian Dillner, Attorney, Competition Policy Division, Wireline Competition Bureau, at (202) 418-1191, or at Ian.Dillner@fcc.gov.

SUPPLEMENTARY INFORMATION: This is a summary of the Commission's Order in WC Docket No. 04-313 and CC Docket No. 01-338, adopted July 21, 2004, and released August 20, 2004 (Order). The complete text of this Order is available for inspection and copying during normal business hours in the FCC Reference Information Center, Portals II, 445 12th Street, SW., Room CY-A257, Washington, DC 20554. This document may also be purchased from the Commission's duplicating contractor, Best Copy and Printing, Inc., Portals II, 445 12th Street, SW., Room CY-B402, Washington, DC 20554, telephone 1-800-378-3160. It is also available on the Commission's Web site at http://www.fcc.gov.

Synopsis of the Order

1. Interim Requirements. The pressing need for market certainty as the Commission works to issue final unbundling rules warrants the implementation of a plan to ensure stability in the interim. This Order therefore requires incumbent LECs to continue providing unbundled access to switching, enterprise market loops, and dedicated transport under the same rates, terms and conditions that applied under their interconnection agreements as of June 15, 2004. These rates, terms, and conditions shall remain in place until the earlier of the effective date of final unbundling rules promulgated by the Commission or six months after Federal Register publication of the Order, except to the extent that they are or have been superseded by (1) voluntarily negotiated agreements, (2) an intervening Commission order affecting specific unbundling obligations (e.g., an order addressing a pending petition for reconsideration), or (3) (with respect to rates only) a State public utility commission order raising the rates for network elements.

2. Transition Plan. As mentioned above, the document also sets forth a transition plan to govern the six months following the initial period described above, in the absence of a Commission ruling that switching, enterprise market loops and/or dedicated transport must be made available pursuant to section 251(c)(3) in any particular case. First, in the absence of a Commission ruling that switching is subject to unbundling, an incumbent LEC shall only be required to lease the switching element to a requesting carrier in combination with shared transport and loops (i.e., as a component of the “UNE platform”) at a rate equal to the higher of (1) the rate at which the requesting carrier leased that combination of elements on June 15, 2004, plus one dollar, or (2) the rate the State public utility commission establishes, if any, between June 16, 2004, and six months after Federal Register publication of this Order, for this combination of elements, plus one dollar. Second, in the absence of a Commission ruling that enterprise market loops and/or dedicated transport are subject to section 251(c)(3) unbundling in any particular case, an incumbent LEC shall only be required to lease the element at issue to a requesting carrier at a rate equal to the higher of (1) 115% of the rate the requesting carrier paid for that element on June 15, 2004, or (2) 115% of the rate the State public utility commission establishes, if any, between June 16, 2004, and six months after Federal Register publication of this Order, for that element. With respect to all elements at issue here, this transition period shall apply only to the embedded customer base, and does not permit competitive LECs to add new customers at these rates. As during the interim period, carriers shall remain free to negotiate alternative arrangements (including rates) superseding our requirements (and State public utility commission rates) during the transition period. Subject to the comments requested in response to the Notice of Proposed Rulemaking, released simultaneously but summarized separately, we intend to incorporate this second phase of the plan into our final rules.

Congressional Review Act

3. The Commission will not send a copy of this Order pursuant to the Congressional Review Act, see 5 U.S.C. 801(a)(1)(A). This Order does not promulgate new rules, but rather extends for an interim period the effectiveness of existing contracts between carriers, which are based on vacated Commission rules, until the Commission develops final rules. This Order does not contain a major rule. See 5 U.S.C. 804(2).

Paperwork Reduction Act

4. This Order does not contain new or modified information collection(s) subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

Ordering Clause

5. Accordingly, it is ordered that the interim requirements set forth in the Order in WC Docket No. 04-313 and CC Docket No. 01-338 shall be effective immediately upon publication in the Federal Register.

Federal Communications Commission.
William F. Caton,
Deputy Secretary.

[FR Doc. 04-20466 Filed 9-10-04; 8:45 am]

BILLING CODE 6712-01-P